DEPARTMENT OF LABOR

Employee Benefits Security Administration

180th Meeting of the Advisory Council on Employee Welfare and Pension Benefit Plans Notice of Meeting

Pursuant to the authority contained in section 512 of the Employee Retirement Income Security Act of 1974 (ERISA), 29 U.S.C. 1142, the 180th open meeting of the Advisory Council on Employee Welfare and Pension Benefit Plans (also known as the ERISA Advisory Council) will be held on March 16, 2016.

The meeting will take place in Room S-2508, U.S. Department of Labor, 200 Constitution Avenue NW., Washington, DC 20210. The purpose of the open meeting, which will run from 9 a.m. to approximately 3:30 p.m., is to welcome the new members, introduce the Council Chair and Vice Chair, receive an update from the Assistant Secretary of Labor for the Employee Benefits Security Administration, and set the topics to be addressed by the Council in 2016.

Organizations or members of the public wishing to submit a written statement may do so by submitting 30 copies on or before March 9, 2016 to Larry Good, Executive Secretary, ERISA Advisory Council, U.S. Department of Labor, Suite N-5623, 200 Constitution Avenue NW., Washington, DC 20210. Statements also may be submitted as email attachments in text or pdf format transmitted to good.larry@dol.gov. It is requested that statements not be included in the body of the email. Relevant statements received on or before March 9, 2016 will be included in the record of the meeting. No deletions, modifications, or redactions will be made to the statements received, as they are public records.

Individuals or representatives of organizations wishing to address the Advisory Council should forward their requests to the Executive Secretary or telephone (202) 693-8668. Oral presentations will be limited to ten minutes, time permitting, but an extended statement may be submitted for the record. Individuals with disabilities who need special accommodations, or others who need special accommodations, should contact the Executive Secretary by March 9.

Signed in Washington, DC, this 18th day of February 2016.
Phyllis C. Borzi,
Assistant Secretary, Employee Benefits Security Administration.

[FR Doc. 2016-03987 Filed 2-24-16; 8:45 am]

BILLING CODE 4510-29-P